NUCLEAR REGULATORY COMMISSION

[Docket No. NRC-2014-0145]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on June 20, 2014.

1. Type of submission, new, revision, or extension: New.

2. The title of the information collection: Request for Information Related to the Filtering Strategies and Severe Accident Management of Boiling Water Reactors (BWR) with Mark I and Mark II Containments Rulemaking.

3. Current OMB approval number: 3150-XXXX.

4. The form number if applicable: N/A.

5. How often the collection is required: Once.

6. Who will be required or asked to report: The Nuclear Energy Institute (NEI) has been asked to respond for the industry. All BWR with Mark I and Mark II containments are expected to provide information to NEI.

7. An estimate of the number of annual responses: 34.

8. The estimated number of annual respondents: 34; the NEI is collecting information that will be submitted to the NRC. The NRC estimates that there are 30 nuclear power plants that will be affected and one organization (NEI).

9. An estimate of the total number of hours needed annually to complete the requirement or request: The NRC estimates the one-time burden associated with the filtering strategies rulemaking request for information will be 2,140 hours and 34 responses. This represents an average annual burden of 713.3 hours and 11.33 responses. The estimated annual cost is $193,018 (713.3 hours × $272/hr.).

10. Abstract: The Information being collected is for the Filtering Strategies and Severe Accident Management of BWR with Mark I and Mark II Containment rulemaking. The NRC is requesting specific information, including detailed cost estimates of alternatives, general assumptions from proprietary documents being made public and plant-specific information on BWR with Mark I and Mark II containments.

The public may examine and have copied, for a fee, publicly-available documents, including the final supporting statement at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by November 17, 2014. Comments received after this date will be considered if it is practical to do so, but assurance of consideration cannot be given to comments received after this date.

Vlad Dorjets, Desk Officer, Office of Information and Regulatory Affairs (3150-XXXX), NEOB-10202, Office of Management and Budget, Washington, DC 20503.

Comments can also be emailed to Vladik_Dorjets@omb.eop.gov or submitted by telephone at 202-395-7315.

The Acting NRC Clearance Officer is Brenda Miles, telephone: 301-415-7884.

Dated at Rockville, Maryland, this 10th day of October 2014.
For the Nuclear Regulatory Commission.
Brenda Miles,
Acting NRC Clearance Officer, Office of Information Services.

[FR Doc. 2014-24590 Filed 10-15-14; 8:45 am]

BILLING CODE 7590-01-P